DEPARTMENT OF INTERIOR

National Park Service

60-Day Notice of Intention To Request Clearance of Collection of Information; Opportunity for Public Comment

AGENCY: National Park Service, Department of Interior.

ACTION: Notice of intended submission to the Office of Management and Budget (OMB) and request for comments.

SUMMARY: Under the provisions of the Paperwork Reduction Act of 1995 (44 U.S.C. 3507 et seq.) and 5 CFR part 1320, the National Park Service (NPS) invites comments on its intention to request OMB to approve information collections associated with Historic Preservation Fund (HPF) grants to Historically Black Colleges and Universities (HBCUs). These are existing collections in use without an OMB control number. Section 101(e)(3)(B) of the National Historic Preservation Act, as amended, (16 U.S.C. 470a(e)(3)(B)) provides general authorization for this kind of grant program. Section 507 of the Omnibus Parks and Public Land Management Act of 1996 (P.L. 104-333), as amended (16 U.S.C. 470a note) specifically mandates grants to HBCUs. The purpose of the HPF grants-to-HBCUs program is to assist in the preservation and restoration of historic buildings and structures on the campuses of Historically Black Colleges and Universities.

DATES: To assure that the NPS considers your comments on this notice, NPS must receive the comments on or before January 20, 2004.

Send Comments To: John W. Renaud, Project Coordinator, State, Tribal and Local Programs, Heritage Preservation Services, National Center for Cultural Resources, National Park Service, 1849 C St., NW., Org. Code 2255, Washington, DC 20240-0001, via fax at (202) 371-1961, or via e-mail at John_Renaud@nps.gov.

FOR FURTHER INFORMATION CONTACT: John W. Renaud, Project Coordinator, State, Tribal and Local Programs, Heritage Preservation Services, National Center for Cultural Resources, National Park Service, 1849 C St., NW., Org. Code 2255, Washington, DC 20240-0001, via fax at (202) 371-1961, via e-mail at John_Renaud@nps.gov, or via telephone at (202) 354-2066.

SUPPLEMENTARY INFORMATION: Title: Historic Preservation Fund grants to Historically Black Colleges and Universities.

OMB Number: 1024-xxxx.

Expiration Date of Approval: Being requested from OMB.

Type of Request: Existing collection in use without an OMB control number.

Abstract: This information collection has an impact on not for profit institutions that wish to apply for Historic Preservation Fund grants to Historically Black Colleges and Universities to preserve and restore historic buildings and structures on campus. The NPS uses the information collections to ensure compliance with the requirements of section 507 of the Omnibus Parks and Public Land Management Act of 1996 (Pub. L. 104-333), as amended (16 U.S.C. 470a note) and the government-wide grant requirements that OMB has issued and the Department of the Interior implements through 43 CFR part 12. This information collection also will produce performance data that NPS uses to assess its progress in meeting goals set in Departmental and NPS strategic plans created pursuant to the 1993 Government Performance and Results Act, as amended.

Respondents: Not for profit institutions.

Estimate of Burden: NPS estimates that the public burden for the HPF grants for HBCUs program collection of information will average 10 hours per application and 21 hours per grant per year for all of the grant-related collections. The combined total public burden for the HPF grants-for-HBCUs program-related information collections would average 31 hours per successful applicant/grantee. These estimates of burden include time for reviewing instructions, searching existing data sources, gathering and maintaining the data needed, and reviewing the collection of information.

Estimated Number of Respondents/Record Keepers: NPS estimates that there are 335 responses per year. This is the gross number of responses for all of the elements included in this information collection. The net numbers of applicants and grantees participating in this information collection annually are 47 applicants and from among them 24 grantees. The frequency of response varies depending upon the activity. Applicants complete the grant application once. Successful applicants execute the grant agreement once and usually seek an amendment once during the two-year grant cycle. During the grant cycle, grantees seek NPS approval once for qualified consultants, plans and specifications, and the final report. There are three on-site inspections during the course of the two-year grant. There is one on-site inspection at the beginning of the project, one in the middle, and one at the end of the project. Grantees comply with government-wide record-keeping requirements throughout the duration of the grant. Grantees provide one interim report per year and usually make requests for payment six times a year.

Estimated average number of Applicant responses: 47 annually.

Estimated average gross number of Grantee responses: 288 annually.

Estimated average gross number of responses: 335 annually.

Estimated average burden hours per Applicant response: 10 hours.

Estimated average burden hours per Grantee response: 2 hours.

Estimated average annual burden hours per Grantee for all responses: 21 hours.

Estimated total annual average burden hours per respondent: 31 hours.

Estimated Annual Burden on Respondents: 957 hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from John W. Renaud, Project Coordinator, State, Tribal and Local Programs, Heritage Preservation Services, National Center for Cultural Resources, National Park Service, 1849 C St., NW., Org. Code 2255, Washington, DC 20240-0001

Dated: October 28, 2003.
Leonard E. Stowe,
Acting Information Collection Clearance Officer, National Park Service, WAPC.

[FR Doc. 03-28838 Filed 11-18-03; 8:45 am]

BILLING CODE 4312-CT-P